DEPARTMENT OF ENERGY

Federal Energy Regulatory Commission

Combined Notice of Filings #1

Take notice that the Commission received the following electric corporate filings:

Docket Numbers: EC20-40-000.

Applicants: EAM Nelson Holding, LLC, Entergy Nuclear Indian Point 2, LLC, Entergy Nuclear Indian Point 3, LLC, Entergy Nuclear Palisades, LLC, Entergy Nuclear Power Marketing, LLC, Entergy Power, LLC, EWO Marketing, LLC, RS Cogen, LLC.

Description: Joint Application for Authorization Under Section 203 of the Federal Power Act, et al. of EAM Nelson Holding, LLC, et al.

Filed Date: 2/21/20.

Accession Number: 20200221-5105.

Comments Due: 5 p.m. ET 3/13/20.

Take notice that the Commission received the following electric rate filings:

Docket Numbers: ER19-2727-002.

Applicants: California Independent System Operator Corporation.

Description: Compliance filing: 2020-02-20 CCDEBE Compliance Filing to be effective 1/28/2020.

Filed Date: 2/20/20.

Accession Number: 20200220-5134.

Comments Due: 5 p.m. ET 3/12/20.

Docket Numbers: ER20-669-001.

Applicants: Midcontinent Independent System Operator, Inc.

Description: Tariff Amendment: 2020-02-21_Amendment to Revisions to Enhance Module D filing to be effective 3/1/2020.

Filed Date: 2/21/20.

Accession Number: 20200221-5070.

Comments Due: 5 p.m. ET 2/28/20.

Docket Numbers: ER20-755-001.

Applicants: Midcontinent Independent System Operator, Inc., ITC Midwest LLC.

Description: Tariff Amendment: 2020-02-21_SA 3397 ITC-MEC Substitute FSA (J475) to be effective 3/9/2020.

Filed Date: 2/21/20.

Accession Number: 20200221-5052.

Comments Due: 5 p.m. ET 3/13/20.

Docket Numbers: ER20-768-001.

Applicants: Midcontinent Independent System Operator, Inc., ITC Midwest LLC.

Description: Tariff Amendment: 2020-02-21_SA 3398 ITC-MEC Substitute FSA (J498 J499 J500) to be effective 3/11/2020.

Filed Date: 2/21/20.

Accession Number: 20200221-5053.

Comments Due: 5 p.m. ET 3/13/20.

Docket Numbers: ER20-769-001.

Applicants: Midcontinent Independent System Operator, Inc., ITC Midwest LLC.

Description: Tariff Amendment: 2020-02-21_SA 3399 ITC-Duane Arnold Solar Substitute FSA (J504) to be effective 3/11/2020.

Filed Date: 2/21/20.

Accession Number: 20200221-5068.

Comments Due: 5 p.m. ET 3/13/20.

Docket Numbers: ER20-794-001.

Applicants: Midcontinent Independent System Operator, Inc., Otter Tail Power Company.

Description: Tariff Amendment: 2020-02-21_SA 3403 OTP-NSP Substitute FSA (J460) CapX Brookings to be effective 3/16/2020.

Filed Date: 2/21/20.

Accession Number: 20200221-5089.

Comments Due: 5 p.m. ET 3/13/20.

Docket Numbers: ER20-806-001.

Applicants: Midcontinent Independent System Operator, Inc., Otter Tail Power Company.

Description: Tariff Amendment: 2020-02-21_SA 3404 OTP-NSP Substitute FSA (J436 J437) Hankinson-Ellendale to be effective 3/16/2020.

Filed Date: 2/21/20.

Accession Number: 20200221-5093.

Comments Due: 5 p.m. ET 3/13/20.

Docket Numbers: ER20-902-000.

Applicants: sPower Energy Marketing.

Description: Supplement to January 31, 2020 sPower Energy Marketing tariff filing.

Filed Date: 2/20/20.

Accession Number: 20200220-5148.

Comments Due: 5 p.m. ET 3/12/20.

Docket Numbers: ER20-1046-000.

Applicants: GridLiance High Plains LLC.

Description: Compliance filing: GridLiance High Plains LLC Compliance Filing to be effective N/A.

Filed Date: 2/20/20.

Accession Number: 20200220-5131.

Comments Due: 5 p.m. ET 3/12/20.

Docket Numbers: ER20-1047-000.

Applicants: GridLiance High Plains LLC.

Description: Compliance filing: GHP Revised Wholesale Distribution Formula Rate Template to be effective 1/1/2020.

Filed Date: 2/20/20.

Accession Number: 20200220-5132.

Comments Due: 5 p.m. ET 3/12/20.

Docket Numbers: ER20-1048-000.

Applicants: GridLiance High Plains LLC.

Description: Compliance filing: GHP Revisions to OATT Formula Rate Template to be effective 3/31/2018.

Filed Date: 2/20/20.

Accession Number: 20200220-5133.

Comments Due: 5 p.m. ET 3/12/20.

Docket Numbers: ER20-1049-000.

Applicants: New York Independent System Operator, Inc.

Description: § 205(d) Rate Filing: 205 re: enhancements to the ICAP demand curve annual update procedures to be effective 4/22/20.20.

Filed Date: 2/21/20.

Accession Number: 20200221-5012.

Comments Due: 5 p.m. ET 3/13/20.

Docket Numbers: ER20-1050-000.

Applicants: Midcontinent Independent System Operator, Inc, GridLiance Heartland LLC.

Description: Compliance filing: 2020-02-21_GridLiance Attachment O Revisions to Comply with Docket No. EC20-13 to be effective 12/31/9998.

Filed Date: 2/21/20.

Accession Number: 20200221-5014.

Comments Due: 5 p.m. ET 3/13/20.

Docket Numbers: ER20-1051-000.

Applicants: American Transmission Systems, Incorporated, PJM Interconnection, L.L.C.

Description: § 205(d) Rate Filing: ATSI submits ECSA SA Nos. 5569, 5570, and 5571 to be effective 4/21/2020.

Filed Date: 2/21/20.

Accession Number: 20200221-5020.

Comments Due: 5 p.m. ET 3/13/20.

Docket Numbers: ER20-1052-000.

Applicants: Midcontinent Independent System Operator, Inc.

Description: § 205(d) Rate Filing: 2020-02-21_SA 3423 ATC-WPSC GIA (J870) to be effective 2/6/2020.

Filed Date: 2/21/20.

Accession Number: 20200221-5047.

Comments Due: 5 p.m. ET 3/13/20.

Docket Numbers: ER20-1053-000.

Applicants: Midcontinent Independent System Operator, Inc.

Description: § 205(d) Rate Filing: 2020-02-21_SA 3424 ATC-Badger Hollow Solar Farm GIA (J871) to be effective 2/6/2020.

Filed Date: 2/21/20.

Accession Number: 20200221-5049.

Comments Due: 5 p.m. ET 3/13/20.

Docket Numbers: ER20-1054-000.

Applicants: Wisconsin Public Service Corporation.

Description: Notice of Cancellation of Rate Schedule No. 82 of Wisconsin Public Service Corporation.

Filed Date: 2/20/20.

Accession Number: 20200220-5162.

Comments Due: 5 p.m. ET 3/12/20.

Docket Numbers: ER20-1055-000.

Applicants: Southern California Edison Company.

Description: § 205(d) Rate Filing: Letter Agreement Santa Paula Energy Storage Project SA No. 1096 to be effective 2/14/2020.

Filed Date: 2/21/20.

Accession Number: 20200221-5072.

Comments Due: 5 p.m. ET 3/13/20.

Docket Numbers: ER20-1056-000.

Applicants: Mid-Atlantic Interstate Transmission, LLC, PJM Interconnection, L.L.C.

Description: § 205(d) Rate Filing: MAIT submits ECSA SA Nos. 5262, 5444, 5507, 5508, 5509, 5567, and 5568 to be effective 4/21/2020.

Filed Date: 2/21/20.

Accession Number: 20200221-5086.

Comments Due: 5 p.m. ET 3/13/20.

Docket Numbers: ER20-1057-000.

Applicants: Southern California Edison Company.

Description: § 205(d) Rate Filing: Revised Non-Transmission Depreciation Rates in SCE's Formula Transmission Rate to be effective 11/12/2019.

Filed Date: 2/21/20.

Accession Number: 20200221-5091.

Comments Due: 5 p.m. ET 3/13/20.

Docket Numbers: ER20-1058-000.

Applicants: Idaho Power Company.

Description: § 205(d) Rate Filing: Concurrence Agreement Between IPC and NorthWestern Corporation to be effective 2/21/2020.

Filed Date: 2/21/20.

Accession Number: 20200221-5092.

Comments Due: 5 p.m. ET 3/13/20.

Take notice that the Commission received the following qualifying facility filings:

Docket Numbers: QF20-640-000.

Applicants: Energy Center Caguas LLC.

Description: Form 556 of Energy Center Caguas LLC.

Filed Date: 2/20/20.

Accession Number: 20200220-5077.

Comments Due: Non-Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 21, 2020. .
Kimberly D. Bose,
Secretary.

[FR Doc. 2020-04021 Filed 2-26-20; 8:45 am]

BILLING CODE 6717-01-P